DEPARTMENT OF HOUSING AND URBAN DEVELOPMENT

[Docket No. FR-7104-N-14; OMB Control No.: 2577-0216]

60-Day Notice of Proposed Information Collection: Annual MTW Plan and Report Elements, MTW Plan-Expansion

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 3, 2025.

ADDRESSES: Interested persons are invited to submit comments regarding this proposal.

Written comments and recommendations for the proposed information collection can be sent within 60 days of publication of this notice to www.regulations.gov. Interested persons are also invited to submit comments regarding this proposal and comments should refer to the proposal by name and/or OMB Control Number and should be sent to: Dawn Martin, Program Analyst, Department of Housing and Urban Development, 451 7th Street SW, Room 3180, Washington, DC 20410-5000.

FOR FURTHER INFORMATION CONTACT: Dawn Martin, Program Analyst, Department of Housing and Urban Development, 451 7th Street SW, Room 3180, Washington, DC 20410; email PIH-PRAPublicComments@hud.gov, telephone (202) 402-6488. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Martin.

SUPPLEMENTARY INFORMATION: This notice informs the public that HUD is seeking approval from OMB for the information collection described in Section A.

A. Overview of Information Collection

Title of Information Collection: Annual MTW Plan and Report Elements; MTW Plan-Expansion.

OMB Approval Number: 2577-0216.

Type of Request: Revision of a currently approved collection.

Form Number: 50900; 50900-EXPANSION.

Description of the Need for the Information and Proposed Use: The Moving to Work (MTW) demonstration was first established under Section 204 of Title II of section 101(e) of the Omnibus Consolidated Rescissions and Appropriations Act of 1996, Public Law 104-134, 110 Stat. 1321-281; 42 U.S.C. 1437f note (1996 MTW Statute). In 2016, the MTW demonstration program was expanded pursuant to Section 239 of the Fiscal Year 2016 Appropriations Act, Public Law 114-113 (2016 MTW Expansion Statute).

All public housing agencies (PHA) are required to submit a five (5) year plan and annual plans as stated in Section 5A of the 1937 Act, as amended. MTW PHAs designated prior to 2016 (Initial MTW PHAs) that are subject to the Standard MTW Agreement, are required to submit the Annual MTW Plan and Annual MTW Report Elements (also known as the HUD Form 50900) in lieu of the standard annual and 5-year PHA plans. MTW PHAs designated after 2016 (Expansion MTW PHAs) that are subject to the MTW Operations Notice, are required to submit the MTW Plan-Expansion (also known as the HUD Form 50900-EXPANSION) in addition to the standard annual and 5-year PHA plans.

The HUD Form 50900 and the HUD Form 50900-EXPANSION contain important information regarding the MTW PHA's upcoming MTW activities and a retrospective look back at the MTW PHA's preceding fiscal year (FY). HUD collects the information in these forms in order to track the prevalence of MTW activities, accurately and timely respond to congressional and other inquiries, and identify promising practices learned through the MTW demonstration.

The HUD Form 50900-EXPANSION was previously called the “MTW Supplement to the Annual PHA Plan” (HUD Form 50075-MTW under OMB No. 2577-0226). In order to streamline administration of this collection, it is being renamed and moved under OMB. No. 2577-0216. Revisions are also being made to the HUD Form 50900-EXPANSION to reduce the reporting and administrative burden on Expansion MTW PHAs. Many core questions and all custom questions within the HUD Form 50900-Expansion that were previously required for MTW activities will be eliminated. In addition to eliminating these previously required questions, other sections will be streamlined where information is already verified through existing certifications and HUD systems. This will reduce burden on Expansion MTW PHAs.

Through the MTW Plan-Expansion, each Expansion MTW PHA will continue to inform HUD, its residents and the public of the PHA's mission for serving the needs of low-income and very low-income families, and the PHA's strategy for addressing those needs. In conjunction with the regular PHA Plan, the MTW Plan-Expansion, provides an easily identifiable source by which residents, participants in tenant-based programs, and other members of the public may locate policies, rules, and requirements concerning the Expansion MTW PHA's operations, programs, and services.

No revisions are being made to the HUD Form 50900 for Initial MTW PHAs.

The 2016 MTW Expansion Statute authorized an additional 100 MTW slots and additional slots may be added through future appropriations acts. Eligible applicants interested in obtaining MTW designation are required to submit applications to HUD, as explained in the applicable HUD Notice. The information collection covers the information needed from applicants to determine which applicants should be selected. The information provided demonstrates the applicants' plans to implement a local MTW program and includes related applicant history. The application includes such information as narrative exhibits, certifications, data forms, and supporting documentation. The information will be used by HUD staff to evaluate threshold requirements and review applications.

Respondents (i.e., affected public): The respondents to this PRA are the 39 Initial MTW PHAs; the up-to 100 Expansion MTW PHAs; and potential applicants that may be submitting applications to participate in the program.

Estimated Number of Respondents: The estimated number of respondents is 139.

Estimated Number of Responses: For the HUD Form 50900, there are 78 submissions per year, 39 Annual MTW Plans and 39 Annual MTW Reports, reflecting the 39 Initial MTW PHAs. This results in a total of 2 submissions per Initial MTW PHA, across all 39 affected Initial MTW PHAs or 78 total responses.

For the HUD Form 50900-Expansion, there are 100 submissions per year, reflecting the up-to 100 Expansion MTW PHAs. There is one annual submission comprised of eight sections. This results in a total of 1 submission per Expansion MTW PHA, across all up-to 100 affected Expansion MTW PHAs or 100 total responses.

Frequency of Response: For the HUD Form 50900, Initial MTW PHAs complete requirements associated with this Form twice per year (Plan and Report). In the Plan, the Initial MTW PHAs complete each of the seven sections of the Form. In the Report, the Initial MTW PHAs complete only five of the seven sections of the Form.

For the HUD Form 50900-Expansion, Expansion MTW PHAs complete requirements associated with this Form once per year. The Expansion MTW PHAs complete each of the eight sections of the Form.

Average Hours per Response: For the HUD Form 50900, the estimated average burden is 66 hours per response to the Annual MTW Plan and 36 hours per response to the Annual MTW Report (or 102 hours per year). Initial MTW PHAs are not required to submit a five (5) year plan and annual plans as stated in Section 5A of the 1937 Act.

For the HUD Form 50900-Expansion, the estimated average burden is six hours per response (or six total hours per year). Expansion MTW PHAs are still required to submit a five (5) year plan and annual plans as stated in Section 5A of the 1937 Act.

Total Estimated Burdens: For the HUD Form 50900, the total estimated burden across all Initial MTW PHAs is 3,978 hours per year.

For the HUD Form 50900-Expansion, the total estimated burden across all Expansion MTW PHAs is 600 hours per year.

Information collection | Number of respondents | Frequency of response | Responses per annum | Burden hour per response | Annual burden hours | Hourly cost per response | Annual cost
Application | 0 | 0 | 0 | 0 | 0 | 0 | $0
50900: “Annual MTW Plan and Report Elements” | 39 |  |  |  |  |  |
Annual MTW Plan |  | 1 | 39 | 66 | 2,574 | $60.59 | 155,959
Annual MTW Report |  | 1 | 39 | 36 | 1,404 | 60.59 | 85,068
50900-EXPANSION: “MTW Plan-Expansion” | 100 | 1 | 100 | 6 | 600 | 60.59 | 36,354
Totals | 139 | varies | 178 | varies | 4,578 | 60.59 | 277,381

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comments in response to these questions.

(Authority: Section 2 of the Paperwork Reduction Act of 1995, 44 U.S.C. 3507.)

Laura Kunkel,
Acting Director, Office of Policy, Programs, and Legislative Initiatives.

[FR Doc. 2025-16971 Filed 9-3-25; 8:45 am]

BILLING CODE 4210-67-P